DEPARTMENT OF HEALTH AND HUMAN SERVICES

Health Resources and Services Administration

Agency Information Collection Activities: Proposed Collection: Public Comment Request; Family-to-Family Health Information Center Feedback Surveys, OMB #: 0906-0040, Extension

AGENCY: Health Resources and Services Administration (HRSA), Department of Health and Human Services.

ACTION: Notice.

SUMMARY: In compliance with the requirement for opportunity for public comment on proposed data collection of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this Information Collection Request must be received no later than January 3, 2022.

ADDRESSES: Submit your comments to paperwork@hrsa.gov or mail the HRSA Information Collection Clearance Officer, Room 14N136B, 5600 Fishers Lane, Rockville, MD 20857.

FOR FURTHER INFORMATION CONTACT: To request more information on the proposed project or to obtain a copy of the data collection plans and draft instruments, email paperwork@hrsa.gov or call Samantha Miller, the acting HRSA Information Collection Clearance Officer at (301) 443-9094.

SUPPLEMENTARY INFORMATION: When submitting comments or requesting information, please include the ICR title for reference.

Information Collection Request Title: Family-to-Family Health Information Center Feedback Surveys, OMB Control Number: 0906-0040, Extension.

Abstract: The Family-to-Family Health Information Center (F2F HIC or Center) program is authorized by the Social Security Act, Title V, § 501(c) (42 U.S.C. 701(c)), as amended by the Medicare Access and CHIP Reauthorization Act of 2015 (Pub. L. 114-10), § 216, the Bipartisan Budget Act of 2018 (Pub. L. 115-123), § 50501, and the Sustaining Excellence in Medicaid Act of 2019 (Pub. L. 116-39), § 5. The goal of the F2F HIC program is to promote optimal health for children and youth with special health care needs (CYSHCN) by facilitating their access to an effective health delivery system and by meeting the health information and support needs of families of CYSHCN and the professionals who serve them. HRSA's Maternal and Child Health Bureau funds 59 F2F HICs in each of the 50 United States and the District of Columbia, five U.S. Territories (Puerto Rico, Guam, American Samoa, the U.S. Virgin Islands and the Northern Mariana Islands); and three F2F HICs who serve American Indians/Alaska Natives. On average, these Centers provide information, education, technical assistance, and peer support to approximately 200,000 families of CYSHCN and approximately 100,000 health professionals each year. F2F HICs are staffed by families of CYSHCN who are uniquely positioned to provide such services, and by health professionals. F2F HIC staff also assist in ensuring families and health professionals are partners in decision making at all levels of care and service delivery.

In order to evaluate the F2F HIC program, HRSA developed two Family-to-Family Health Information Center Feedback Surveys for family members of CYSHCN and health professionals who serve such families. Each F2F HIC administers the surveys and reports data back to HRSA. Survey respondents will be asked to answer questions about how useful they found the information, assistance, or resources received from the F2F HICs. The purpose of this notice is to solicit comments regarding the continuation of previously approved feedback surveys; no changes will be made to the survey instruments.

Need and Proposed Use of the Information: Data from the feedback surveys will provide mechanisms to capture consistent performance data from F2F HIC grant recipients. The data will also allow F2F HICs to evaluate the effectiveness of their interventions and improve services provided to families and the providers who serve CYSHCN families.

Likely Respondents: Likely respondents are users of F2F HIC services, which include family members of CYSHCN and health professionals who serve such families.

Burden Statement: Burden in this context means the time expended by persons to generate, maintain, retain, disclose or provide the information requested. This includes the time needed to review instructions; to develop, acquire, install and utilize technology and systems for the purpose of collecting, validating and verifying information; to process and to maintain, information; and to disclose and provide information; to train personnel to be able to respond to a collection of information; to search data sources; to complete and review the collection of information; and to transmit or otherwise disclose the information. The total annual burden hours estimated for this ICR are summarized in the table below.

The eventual estimated respondent count per year is approximately 3,000 families and 1,000 professionals.

Total Estimated Annualized Burden Hours
Form name | Number of respondents | Number of responses per respondent | Total responses | Average burden per response (in hours) | Total burden hours
F2F HIC Feedback Survey | 4,000 | 1 | 4,000 | 0.15 | 600
F2F HIC Grant Recipient Activity | 59 | 1 | 59 | 89.00 | 5,251
Total | 4,059 |  | 4,059 |  | 5,851

HRSA specifically requests comments on (1) the necessity and utility of the proposed information collection for the proper performance of the agency's functions; (2) the accuracy of the estimated burden; (3) ways to enhance the quality, utility, and clarity of the information to be collected; and (4) the use of automated collection techniques or other forms of information technology to minimize the information collection burden.

Maria G. Button,
Director, Executive Secretariat.

[FR Doc. 2021-23718 Filed 10-29-21; 8:45 am]

BILLING CODE 4165-15-P